DEPARTMENT OF EDUCATION

[Docket No.: ED-2023-SCC-0145]

Agency Information Collection Activities; Submission to the Office of Management and Budget for Review and Approval; Comment Request; Income Driven Repayment Plan Request for the William D. Ford Federal Direct Loans and Federal Family Education Loan Programs

AGENCY: Federal Student Aid (FSA), Department of Education (ED).

ACTION: Notice.

SUMMARY: In accordance with the Paperwork Reduction Act (PRA) of 1995, the Department is proposing an extension without change of a currently approved information collection request (ICR).

DATES: Interested persons are invited to submit comments on or before January 10, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, 202-377-4018.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Income Driven Repayment Plan Request for the William D. Ford Federal Direct Loans and Federal Family Education Loan Programs.

OMB Control Number: 1845-0102.

Type of Review: An extension without change of a currently approved ICR.

Respondents/Affected Public: Individuals and Households.

Total Estimated Number of Annual Responses: 9,500,000.

Total Estimated Number of Annual Burden Hours: 3,135,000.

Abstract: The Department of Education (Department) is requesting an extension of the information collection, 1845-0102. This collection was approved under an emergency clearance on July 27, 2023, and the Department is now requesting the 30-day public comment period. The Department updated the Income Driven Repayment (IDR) Request Form used by a borrower to enroll, recertify, or change their IDR plan to support the provisions identified for early implementation in the final rule published July 10, 2023, and the provisions in the FUTURE ACT related to borrower consent to use tax information for IDR participation. Specifically, the form was updated to include a new section related to the borrowers consent to use tax information for this application and on an ongoing basis and to reflect the name change of the REPAYE Plan to the SAVE Plan. The form was also updated to remove the need for spousal income information in the situation where a borrower files taxes separately from their spouse. This removes the need to collect the signature of the spouse as the spouses information is no longer necessary to participate in any IDR plan. Other updates were made to improve readability and the borrower experience. There have been no further changes to the form since the emergency clearance was approved.

Dated: December 6, 2023.
Kun Mullan,
PRA Coordinator, Strategic Collections and Clearance, Governance and Strategy Division, Office of Chief Data Officer, Office of Planning, Evaluation and Policy Development.

[FR Doc. 2023-27104 Filed 12-8-23; 8:45 am]

BILLING CODE 4000-01-P